DEPARTMENT OF THE INTERIOR

Fish and Wildlife Service

[FWS-HQ-MB-2019-N001; FXMB12310900WHO-189-FF09M26000; OMB Control Number 1018-0023]

Agency Information Collection Activities; Migratory Bird Harvest Information Program and Migratory Bird Surveys

AGENCY: Fish and Wildlife Service, Interior.

ACTION: Notice of information collection; request for comment.

SUMMARY: In accordance with the Paperwork Reduction Act of 1995, we, the U.S. Fish and Wildlife Service (Service), are proposing to revise an information collection.

DATES: Interested persons are invited to submit comments on or before April 29, 2019.

ADDRESSES: Send your comments on the information collection request (ICR) by mail to the Service Information Collection Clearance Officer, U.S. Fish and Wildlife Service, MS: BPHC, 5275 Leesburg Pike, Falls Church, VA 22041-3803 (mail); or by email to Info_Coll@fws.gov. Please reference OMB Control Number 1018-0023 in the subject line of your comments.

FOR FURTHER INFORMATION CONTACT: Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (16 U.S.C. 703-711) and the Fish and Wildlife Act of 1956 (16 U.S.C. 742d) designate the Department of the Interior as the key agency responsible for (1) the wise management of migratory bird populations frequenting the United States, and (2) setting hunting regulations that allow appropriate harvests that are within the guidelines that will allow for those populations' well-being. These responsibilities dictate that we gather accurate data on various characteristics of migratory bird harvest. Based on information from harvest surveys, we can adjust hunting regulations as needed to optimize harvests at levels that provide a maximum of hunting recreation while keeping populations at desired levels.

Under 50 CFR 20.20, migratory bird hunters must register for the Migratory Bird Harvest Information Program in each State in which they hunt each year. State natural resource agencies must send names and addresses of all migratory bird hunters to Branch of Harvest Surveys, U.S. Fish and Wildlife Service Division of Migratory Bird Management, on an annual basis.

The Migratory Bird Hunter Survey is based on the Migratory Bird Harvest Information Program. We randomly select migratory bird hunters and ask them to report their harvest. The resulting estimates of harvest per hunter are combined with the complete list of migratory bird hunters to provide estimates of the total harvest for the species surveyed.

The Parts Collection Survey estimates the species, sex, and age composition of the harvest, and the geographic and temporal distribution of the harvest. Randomly selected successful hunters who responded to the Migratory Bird Hunter Survey the previous year are asked to complete and return a postcard if they are willing to participate in the Parts Collection Survey. We provide postage-paid envelopes to respondents before the hunting season and ask them to send in a wing or the tail feathers from each duck or goose that they harvest, or a wing from each mourning dove, woodcock, band-tailed pigeon, snipe, rail, or gallinule that they harvest. We use the wings and tail feathers to identify the species, sex, and ages of the harvested samples. We also ask respondents to report on the envelope the date and location of harvest for each bird. We combine the results of this survey with the harvest estimates obtained from the Migratory Bird Hunter Survey to provide species-specific national harvest estimates.

The combined results of these surveys enable us to evaluate the effects of season length, season dates, and bag limits on the harvest of each species, and thus help us determine appropriate hunting regulations.

The Sandhill Crane Harvest Survey is an annual questionnaire survey of people who obtained a sandhill crane hunting permit. At the end of the hunting season, we randomly select a sample of permit holders and ask them to report the date, location, and number of birds harvested for each of their sandhill crane hunts. Their responses provide estimates of the temporal and geographic distribution of the harvest as well as the average harvest per hunter, which, combined with the total number of permits issued, enables us to estimate the total harvest of sandhill cranes. Based on information from this survey, we adjust hunting regulations as needed.

We received approval under the DOI Fast Track clearance process (OMB Control No. 1090-0011) to conduct limited user testing of a new online hunter diary survey. With this submission, we will request OMB approval of this new online harvest survey that will eventually replace our paper hunter diary survey (after a phase-in period of 3 years). The new online survey consists of a series of four questions, which ask for the same information that is currently solicited on our paper forms, but in an easier and more streamlined format. The online form also allows for hunters to keep track of their hunting activity in the form of a log, which they can download or print at the end of the season. Preliminary testing of this online survey suggests that the completion time is less than that of our paper surveys and will provide hunters with a more enjoyable experience.

Title of Collection: Migratory Bird Information Program and Migratory Bird Surveys, 50 CFR 20.20.

OMB Control Number: 1018-0023.

Form Number: Forms 3-165, 3-165A through E, 3-2056J through N.

Type of Review: Revision of a currently approved collection.

Respondents/Affected Public: States and migratory game bird hunters.

Respondent's Obligation: Mandatory for Harvest Information Program registration information; voluntary for participation in the surveys.

Frequency of Collection: Annually or on occasion.

Total Estimated Annual Nonhour Burden Cost: None.

Activity | Form No. | Number of respondents | Number of responses | Completion time per response | Total annual burden hours *
Migratory Bird Harvest Information Program
Government | None | 49 | 784 | 157 hours | 123,088
Migratory Bird Hunter Survey
Individuals | Form 3-2056J | 18,500 | 18,500 | 5 minutes | 1,542
Individuals | Form 3-2056K | 11,550 | 11,550 | 4 minutes | 770
Individuals | Form 3-2056L | 4,450 | 4,450 | 4 minutes | 297
Individuals | Form 3-2056M | 6,000 | 6,000 | 3 minutes | 300
Sandhill Crane Harvest Survey
Individuals | 3-2056N | 2,000 | 2,000 | 3.5 minutes | 117
Parts Collection Survey
Individuals | Form 3-165 | 4,200 | 92,400 | 5 minutes | 7,700
Individuals | Form 3-165A | 1,000 | 5,500 | 5 minutes | 458
Individuals | Form 3-165B | 3,600 | 3,600 | 1 minute | 60
Individuals | Form 3-165C | 400 | 400 | 1 minute | 7
Individuals | Form 3-165D | 1,100 | 1,100 | 1 minute | 18
Individuals | Form 3-165E | 900 | 1,350 | 5 minutes | 113
Online Hunter Diary Survey (all species groups)
Individuals | On-line | 42,500 | 42,500 | 4 minutes | 2,833
Totals |  | 96,249 | 190,134 |  | 137,303
* Rounded.

An agency may not conduct or sponsor and a person is not required to respond to a collection of information unless it displays a currently valid OMB control number.

The authority for this action is the Paperwork Reduction Act of 1995 (44 U.S.C. 3501 et seq.).

Dated: February 25, 2019.
Madonna Baucum,
Information Collection Clearance Officer, U.S. Fish and Wildlife Service.

[FR Doc. 2019-03497 Filed 2-27-19; 8:45 am]

BILLING CODE 4333-15-P